FEDERAL DEPOSIT INSURANCE CORPORATION

12 CFR Part 328

RIN 3064-AF26

FDIC Official Signs and Advertising Requirements, False Advertising, Misrepresentation of Insured Status, and Misuse of the FDIC's Name or Logo

AGENCY: Federal Deposit Insurance Corporation (FDIC).

ACTION: Final rule; delay of compliance date.

SUMMARY: On December 20, 2023, the FDIC adopted a final rule that, among other things, amended the FDIC's sign and advertisement of membership requirements for insured depository institutions (IDIs). The amendments made by the final rule took effect on April 1, 2024; however, full compliance with the amendments was delayed to January 1, 2025. On October 22, 2024, full compliance with the amendments to the sign and advertisement of membership requirements contained in the final rule was delayed to May 1, 2025. The FDIC is further postponing the compliance date for the requirement to display the FDIC official digital sign on an IDI's digital channels, as well as on the screen of an IDI's automated teller machine (ATM) and like devices, to March 1, 2026. During this time, the FDIC will continue to review the feedback received regarding implementation issues and potential consumer confusion that may result from requirements related to the display of the digital sign. After completing its review, the FDIC expects to propose changes to the regulation to address implementation concerns and potential sources of confusion.

DATES: The compliance date for 12 CFR 328.4 and 328.5, which was initially delayed at 89 FR 84261 (October 22, 2024), is further delayed to March 1, 2026.

FOR FURTHER INFORMATION CONTACT: Division of Depositor and Consumer Protection: Luke H. Brown, Associate Director, 202-898-3842, LuBrown@FDIC.gov; Meron Wondwosen, Chief, Supervisory Policy, 202-898-7211, MeWondwosen@FDIC.gov; Edward J. Hof, Senior Policy Analyst, 202-898-7213, EdwHof@FDIC.gov. Legal Division: Kate Marks, Counsel, 202-898-3896, KMarks@fdic.gov; Chantal Hernandez, Counsel, 202-898-7388, ChHernandez@FDIC.gov.

SUPPLEMENTARY INFORMATION: On December 20, 2023, the FDIC Board of Directors adopted a final rule revising the sign and advertisement of membership regulations implementing section 18(a) of the Federal Deposit Insurance Act.¹ On January 18, 2024, the final rule was published in the Federal Register.²

¹ 12 U.S.C. 1828(a).

² 89 FR 3504 (January 18, 2024).

The final rule became effective on April 1, 2024, and required full compliance by January 1, 2025. Based upon feedback from IDIs and other industry participants, the FDIC delayed the compliance date for the amendments in subpart A of 12 CFR part 328 to May 1, 2025.³ The delay was intended to provide additional time for IDIs to put in place processes and systems and make technological updates.

³ 89 FR 84261 (October 22, 2024).

While the FDIC has observed that some IDIs have implemented aspects of the final rule, it recognizes that the requirement under 12 CFR 328.5 to display the FDIC official digital sign on certain digital channel pages continues to generate questions regarding implementation and may result in consumer confusion. In an effort to address these and related concerns, the FDIC is delaying the compliance date for 12 CFR 328.5, which includes the requirements for displaying the digital sign on an IDI's digital channels, from May 1, 2025, to March 1, 2026. This delay will allow the FDIC to propose changes to the regulation for public comment to address implementation concerns and potential sources of confusion. The FDIC is also delaying the compliance date for 12 CFR 328.4, which includes analogous requirements related to an IDI's ATM and like devices, from May 1, 2025, to March 1, 2026.

Compliance with all other provisions in subpart A remains unchanged and generally is required by May 1, 2025.⁴

⁴ The policies and procedures required by 12 CFR 328.8 for which the compliance date is May 1, 2025, will not need to address the requirements in 12 CFR 328.4 or 328.5, until March 1, 2026, the full compliance date for these provisions.

Federal Deposit Insurance Corporation.
By order of the Board of Directors.
Dated at Washington, DC, on March 3, 2025.
Jennifer M. Jones,
Deputy Executive Secretary.

[FR Doc. 2025-03790 Filed 3-10-25; 8:45 am]

BILLING CODE 6714-01-P